DEPARTMENT OF ENERGY

Federal Energy Regulatory Commission

[Project No. 15090-000]

Energy Recycling Company, LLC; Notice of Preliminary Permit Application Accepted for Filing and Soliciting Comments, Motions To Intervene, and Competing Applications

On February 8, 2021, Energy Recycling Company, LLC, filed an application for a preliminary permit, pursuant to section 4(f) of the Federal Power Act, proposing to study the feasibility of the Bigstone Pumped Storage Project (Bigstone Project or project) to be located near the City of Milbank, Grant County, South Dakota. The sole purpose of a preliminary permit, if issued, is to grant the permit holder priority to file a license application during the permit term. A preliminary permit does not authorize the permit holder to perform any land-disturbing activities or otherwise enter upon lands or waters owned by others without the owners' express permission.

The proposed project is a closed loop pumped storage project that would consist of the following: (1) A 55-foot-high, 120-acre-area circular upper reservoir constructed as a concrete-lined rockfill embankment with a total storage capacity of approximately 3,500 acre-feet operating between a maximum water surface elevation of 1,145 feet mean sea level (msl) and a minimum water surface elevation of 1,095 feet msl; (2) a reinforced concrete “morning glory” type upper intake of circular configuration with a maximum outside diameter of approximately 100-feet and an inside diameter of 18-feet; (3) a 2,800-foot-long, 16-foot-diameter vertical penstock excavated in granitic bedrock and steel-lined extending between the upper intake and the pump/turbines below; (4) an underground eight concentric circular tunnels lower reservoir with diameters from 5,400 feet to 4,200 feet excavated in granitic bedrock, located 2,500 feet below the ground surface elevation of 1,095 feet msl, with a usable storage capacity approximately the same as the upper reservoir and operational water elevations between minus 1,410 feet msl and minus 1,452.5 feet msl; (5) a 200-foot-long, 70-foot-wide, 130-foot-high powerhouse located 300 feet below the lower reservoir containing two reversible Francis pump/turbine-motor/generator units rated for 333 megawatts each; (6) a 240-foot-long, 50-foot-wide, 40-foot-high underground transformer gallery; (7) a 200-foot-square above ground substation; (8) a 1.5-mile-long, 345-kilovolt (kV) transmission line extending from the substation to an existing 345-kV transmission line owned by others; and (9) appurtenant facilities. There would be no federal land within the proposed project boundary. The estimated annual generation of the Bigstone Project would be 1,450 gigawatt-hours.

Applicant Contact: Mr. Douglas Spaulding, P.E., Nelson Energy, 8441 Wayzata Blvd., Suite 101, Golden Valley, MN 55426; phone: (952) 544-8133.

FERC Contact: Sergiu Serban; phone: (202) 502-6211.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15090-000.

More information about this project, including a copy of the application, can be viewed or printed on the “eLibrary” link of Commission's website at http://www.ferc.gov/docs-filing/elibrary.asp. Enter the docket number (P-15090) in the docket number field to access the document. For assistance, contact FERC Online Support.

Dated: April 20, 2021.
Kimberly D. Bose,
Secretary.

[FR Doc. 2021-08607 Filed 4-23-21; 8:45 am]

BILLING CODE 6717-01-P